SECURITIES AND EXCHANGE COMMISSION

[File No. 500-1]

AER Energy Resources, Inc.; Alto Group Holdings, Inc.; Bizrocket.Com Inc.; Fox Petroleum, Inc.; Geopulse Explorations Inc.; Global Technologies Group Inc.; KMA Global Solutions International, Inc.; Mike The Pike Productions Inc.; Mobile Star Corp.; SavWatt USA Inc.; Scorpex Inc.; Silver Dragon Resources Inc.; Strategic Mining Corp.; Surgline International Inc.; Thrive World Wide Inc.; Zamage Digital Art Imaging Inc.; Order of Suspension of Trading

September 17, 2012.

It appears to the Securities and Exchange Commission that there is a lack of current and accurate information concerning the securities of the issuers listed below. As set forth below for each issuer, questions have arisen regarding the accuracy of publicly disseminated information, concerning, among other things: (1) The company's business operations, (2) the company's current financial condition; and/or (3) issuances of shares in company stock.

1. AER Energy Resources, Inc. is a Nevada corporation based in Arizona. Questions have arisen concerning the adequacy and accuracy of press releases concerning the company's operations.

2. Alto Group Holdings, Inc. is a Nevada corporation based in Washington State. Questions have arisen concerning the adequacy and accuracy of publicly available information about the company's operations, and concerning issuances of shares in the company's stock.

3. Bizrocket.com Inc. is a Nevada corporation based in Florida. Questions have arisen concerning the adequacy and accuracy of press releases concerning the company's revenues.

4. Fox Petroleum, Inc. is a Nevada corporation based in New York. Questions have arisen concerning the adequacy and accuracy of press releases concerning the company's operations.

5. Geopulse Explorations Inc. is a Nevada corporation based in New Mexico. Questions have arisen concerning the adequacy and accuracy of press releases concerning the company's operations.

6. Global Technologies Group Inc. is a Florida corporation based in Florida. Questions have arisen concerning the adequacy of publicly available information about the company.

7. KMA Global Solutions International Inc. is a Nevada corporation based in Ontario, Canada. Questions have arisen concerning the adequacy and accuracy of press releases concerning the company's operations.

8. Mike the Pike Productions Inc. is a Wyoming corporation based in Indiana and California. Questions have arisen concerning the adequacy and accuracy of press releases concerning the company's operations and the accuracy of its financial statements.

9. Mobile Star Corp. is a Delaware corporation based in California. Questions have arisen concerning the adequacy and accuracy of press releases concerning the company's operations.

10. SavWatt USA, Inc. is a Delaware corporation based in Maryland. Questions have arisen concerning the adequacy and accuracy of press releases concerning the company's operations.

11. Scorpex, Inc. is a Nevada corporation based in Nevada. Questions have arisen concerning the adequacy and accuracy of press releases concerning the company's operations.

12. Silver Dragon Resources Inc. is a Delaware corporation based in Ontario, Canada. Questions have arisen concerning the adequacy and accuracy of publicly available information about the company's operations.

13. Strategic Mining Corp. is a Wyoming corporation based in Ontario, Canada. Questions have arisen concerning the adequacy and accuracy of press releases concerning the company's operations.

14. Surgline International Inc. is a Nevada corporation based in Florida. Questions have arisen concerning the adequacy and accuracy of press releases and public filings concerning the company's operations.

15. Thrive World Wide, Inc. is a Nevada corporation based in Wisconsin. Questions have arisen concerning the adequacy and accuracy of press releases concerning the company's operations.

16. Zamage Digital Art Imaging, Inc. is a Nevada corporation. Questions have arisen concerning the adequacy and accuracy of press releases concerning the company's operations and the accuracy of its financial statements.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT, on September 17, 2012 through 11:59 p.m. EDT, on September 28, 2012.

By the Commission.
Elizabeth M. Murphy,
Secretary.

[FR Doc. 2012-23195 Filed 9-17-12; 4:15 pm]

BILLING CODE 8011-01-P